POSTAL REGULATORY COMMISSION

39 CFR Part 3050

[Docket No. RM2017-9; Order No. 3994]

Periodic Reporting

AGENCY: Postal Regulatory Commission.

ACTION: Notice of proposed rulemaking.

SUMMARY: The Commission is noticing a recent filing requesting that the Commission initiate an informal rulemaking proceeding to consider changes to an analytical method for use in periodic reporting (Proposal Five). This notice informs the public of the filing, invites public comment, and takes other administrative steps.

DATES: Comments are due: August 16, 2017.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal Five

III. Notice and Comment

IV. Ordering Paragraphs

I. Introduction

On June 30, 2017, the Postal Service filed a petition pursuant to 39 CFR 3050.11 requesting the Commission to initiate an informal rulemaking proceeding to consider proposed changes to an analytical method related to periodic reports.¹ The Petition identifies the proposed analytical method changes filed in this docket as Proposal Five.

¹ Petition of the United States Postal Service for the Initiation of a Proceeding to Consider Proposed Changes in Analytical Principles (Proposal Five), June 30, 2017 (Petition).

II. Proposal Five

Background. The Postal Service currently uses sampling from the In-Office Cost System (IOCS) to divide accrued city carrier costs between letter routes and special purpose routes (SPRs). Petition at 2.

Proposal. The Postal Service proposes to replace IOCS sampling data with more comprehensive census data from the Time and Attendance Collection System (TACS) to determine the share of costs for letter routes and SPRs. Id. Proposal Five would not change any other costing methodologies. Id. at 3.

Rationale and impact. The Postal Service states that use of TACS census data would reduce the variability of statistical estimates of costs by route group due to sampling. Id. The Postal Service states further that practical challenges in implementing IOCS sampling may lead to systematic errors in IOCS-based estimates of total costs for carrier work assignments, including route group totals. Id. Table 1 purports to show the quarterly impact Proposal Five would have had on costs of the two route groups in FY 2016. See id. at 4-5. Table 2 shows the alleged impact on product costs. See id. at 5-7.

III. Notice and Comment

The Commission establishes Docket No. RM2017-9 for consideration of matters raised by the Petition. More information on the Petition may be accessed via the Commission's Web site at http://www.prc.gov. Interested persons may submit comments on the Petition and Proposal Five no later than August 16, 2017. Pursuant to 39 U.S.C. 505, Lawrence Fenster is designated as officer of the Commission (Public Representative) to represent the interests of the general public in this proceeding.

IV. Ordering Paragraphs

It is ordered:

1. The Commission establishes Docket No. RM2017-9 for consideration of the matters raised by the Petition of the United States Postal Service for the Initiation of a Proceeding to Consider Proposed Changes in Analytical Principles (Proposal Five), filed June 30, 2017.

2. Comments by interested persons in this proceeding are due no later than August 16, 2017.

3. Pursuant to 39 U.S.C. 505, the Commission appoints Lawrence Fenster to serve as an officer of the Commission (Public Representative) to represent the interests of the general public in this docket.

4. The Secretary shall arrange for publication of this order in the Federal Register.

By the Commission.
Ruth Ann Abrams,
Acting Secretary.

[FR Doc. 2017-14423 Filed 7-10-17; 8:45 am]

BILLING CODE 7710-FW-P